DEPARTMENT OF TRANSPORTATION

Pipeline and Hazardous Materials Safety Administration

[PHMSA-06-24764; Notice No. 06-03]

Revision of the Emergency Response Guidebook

AGENCY: Pipeline and Hazardous Materials Safety Administration (PHMSA), DOT.

ACTION: Notice; request for comments.

SUMMARY: This notice advises interested persons that the Pipeline and Hazardous Materials Safety Administration (PHMSA) is soliciting comments on the development of the 2008 Emergency Response Guidebook (ERG2008), particularly from those who have experience using the 2004 Emergency Response Guidebook (ERG2004) during a hazardous materials incident. PHMSA is also soliciting comments on the experiences emergency responders have had obtaining emergency response information during an incident. The ERG2008 will supersede the ERG2004. The development of the ERG2008 is a joint effort involving the transportation agencies of the United States, Canada, and Mexico. PHMSA will publicize its interest in receiving comments on the ERG2008 and this notice through its announcements to emergency responder associations, during training and education seminars, and during activities with State and local government agencies. PHMSA has also established an e-mail address for interested persons to submit their comments: ERG2008@dot.gov.

DATES: Written comments should be submitted on or before September 18, 2006.

ADDRESSES: You may submit comments identified by the docket number (PHMSA-06-24764 (Notice No. 06-03)) by any of the following methods:

• Web site: http://dms.dot.gov. Follow the instructions for submitting comments on the DOT electronic docket site.

• Fax: 1-202-493-2251.

• Mail: Docket Management System; U.S. Department of Transportation, 400 Seventh Street, SW., Nassif Building, Room PL-402, Washington, DC 20590-0001.

• Hand Delivery: To the Docket Management System; Room PL-402 on the plaza level of the Nassif Building, 400 Seventh Street, SW., Washington, DC between 9 a.m. and 5 p.m., Monday through Friday, except Federal holidays.

• Federal eRulemaking Portal: Go to http://www.regulations.gov. Follow the online instructions for submitting comments.

Instructions: All submissions must include the agency name and docket number or Regulatory Identification Number (RIN) for this notice. For detailed instructions on submitting comments and additional information on the rulemaking process, see the Public Participation heading of the SUPPLEMENTARY INFORMATION section of this document. Note that all comments received will be posted without change to http://dms.dot.gov including any personal information provided. Please see the Privacy Act heading under Supplementary Information.

Docket: For access to the docket to read background documents or comments received, go to http://dms.dot.gov at any time or to the Docket Management System (see ADDRESSES).

FOR FURTHER INFORMATION CONTACT: Suezett Edwards, Office of Hazardous Materials Initiatives and Training (PHH-50), Pipeline and Hazardous Materials Safety Administration (PHMSA) 400 Seventh Street, SW., Washington, DC 20590-0001, phone number: (202) 366-4900, e-mail: Suezett.edwards@dot.gov.

SUPPLEMENTARY INFORMATION:

I. Request for Comments

A. Background and Purpose

The Federal hazardous materials transportation law, 49 U.S.C. 5101 et seq., authorizes the Secretary of Transportation to issue and enforce regulations deemed necessary to ensure the safe transport of hazardous materials. In addition, the law directs the Secretary of Transportation to provide law enforcement and fire-fighting personnel with technical information and advice for responding to emergencies involving the transportation of hazardous materials.

PHMSA developed the Emergency Response Guidebook (ERG) for use by emergency services personnel to provide guidance for initial response to hazardous materials incidents. Since 1976, it has been the goal of PHMSA for all public emergency response vehicles, including fire fighting, police, and rescue squad vehicles, to carry a copy of the ERG. To accomplish this, PHMSA has published nine editions of the ERG and has distributed without charge over nine million copies to emergency services agencies.

Since 1996, PHMSA, Transport Canada, and the Secretary of Communication and Transport of Mexico jointly developed the ERG. The ERG2008 will supersede the ERG2004 and we will publish it in English, French, and Spanish for use by emergency response personnel. Publication of the ERG2008 will increase public safety by providing consistent emergency response procedures for hazardous materials incidents in North America. To continually improve the ERG, PHMSA is publishing this notice to actively solicit comments from interested parties on their experiences using the ERG2004. We request that commenters provide responses to the questions listed below as well as any additional information they would like to provide. We are especially interested in receiving comments on the usefulness of the ERG and the type and quality of information it provides from those who have used the ERG during a hazardous materials incident. To further examine the information received during a hazardous materials incident, we have included questions to solicit comments on the type and quality of information received when using the emergency response telephone numbers listed in the ERG2004. The emergency response information service companies that provide these numbers have agreed to be available by telephone 24 hours a day, 7 days a week to provide specific information about hazardous materials to emergency responders arriving at the scene of a hazardous materials transportation incident.

To better ensure emergency responders and the public have sufficient opportunity to comment on the ERG2008 and this notice, PHMSA's training and outreach program will actively publicize its interest in receiving these comments through announcements to emergency responder associations, during training and education seminars, and during activities with State and local government agencies. In addition, PHMSA has established an e-mail address for interested persons to easily submit their comments. The address is ERG2008@dot.gov.

B. Emergency Response Guidebook User Concerns

PHMSA solicits comments on ERG user concerns and on the following questions:

1. Have emergency responders experienced a problem of inconsistent guidance between ERG2004 and other sources of technical information? If so, in what way could PHMSA reduce or reconcile the inconsistencies in the ERG2008?

2. Have emergency responders experienced confusion or difficulty in understanding the scope or purpose of the ERG2004? If so, in what way could PHMSA reduce this difficulty in the ERG2008?

3. Have emergency responders experienced confusion or difficulty in understanding how to use the ERG2004? If so, in what way could PHMSA reduce this difficulty in the ERG2008?

4. How could the “Table of Initial Isolation and Protective Action Distances” or its introduction be made easier to comprehend and use?

5. In the “Table,” does the distinction between day and night protective action distances add useful information for the first responder? How could the distinction be improved?

6. Could the “List of Dangerous Water-Reactive Materials” introduced in The 1996 North American Emergency Response Guidebook (NAERG96) be enhanced or improved?

7. Have emergency responders experienced difficulty understanding the capabilities of chemical protective clothing, and the limitations of structural firefighter's protective clothing in hazardous materials incidents? If so, in what way can PHMSA improve the understanding in the ERG2008?

8. Have any identification numbers (ID Nos.) been assigned incorrectly to a material? If so, what is (are) the name of the material(s)?

9. Has any identification number and/or material been assigned to the “wrong” guide? If so, please identify the material and the guide, recommend the correct guide, and state why you believe it should be used.

10. Are the recommendations and responses on each guide appropriate for the material assigned to the guide?

11. Have emergency responders experienced difficulty with legibility of ERG2004's print style, format, or durability?

12. Have emergency response agencies experienced difficulty in obtaining copies of ERG2004 for their vehicles?

13. In addition to the Table of Placards, Rail Car Identification Chart, and Road Trailer Identification Chart, should other pictorial information be included?

14. Are the Table of Placards, Rail Car Identification Chart, and Road Trailer Identification Chart accurate, useful, and easy to use? If not, how could they be improved?

15. Are the terms listed in the Glossary defined satisfactorily?

16. Should additional terms be added to the Glossary?

C. Questions Regarding the Emergency Response Telephone Numbers Listed in the ERG2004

17. Have you received inaccurate information from any of the numbers listed in the ERG2004? If so, from which company(s)? What was wrong with the information provided? Was this a one-time occurrence? If not, how many times did this occur?

18. Have non-government emergency response telephone number providers delivered adequate information to assist first responders during emergencies? Please provide examples.

19. Should non-government emergency response telephone number providers be audited to assure their capacity to provide adequate and accurate information to first responders?

20. Are there other companies you have used that you consider reliable and would like included in the ERG2008? Who are they and why?

21. When requesting emergency assistance was the response timely? What do you consider a timely response? In your opinion, what company(s) did not meet this requirement? How many times did this occur?

22. When calling one of the Emergency Response Telephone Numbers listed in the ERG2004, have you experienced any problems, such as a busy phone line, being disconnected during call, or no response at all?

23. Do you have any additional comments regarding the quality of service and information received from any of the companies listed in the ERG2004 that provide Emergency Response information?

24. Should non-government emergency response telephone numbers continue to be listed in the ERG2008?

25. To be listed in the ERG2008, should non-government emergency response telephone number providers meet specific and verifiable criteria? If yes, please provide examples.

27. If a non-government emergency response telephone number provider does business under several names, should the provider be limited to one listing in the ERG2008?

Any supporting data and analyses provided will enhance the value of the comments submitted and is appreciated.

Issued in Washington, DC, on June 12, 2006, under authority delegated in 49 CFR part 106.
Robert A. McGuire,
Associate Administrator for Hazardous Materials Safety, Pipeline and Hazardous Materials Safety Administration.

[FR Doc. E6-11395 Filed 7-18-06; 8:45 am]

BILLING CODE 4910-60-P